DEPARTMENT OF THE INTERIOR

National Park Service

[NPS-WASO-NAGPRA-NPS0038401; PPWOCRADN0-PCU00RP14.R50000]

Notice of Inventory Completion: Fort Leavenworth, Fort Leavenworth, KS

AGENCY: National Park Service, Interior.

ACTION: Notice.

SUMMARY: In accordance with the Native American Graves Protection and Repatriation Act (NAGPRA), Fort Leavenworth has completed an inventory of human remains and associated funerary objects and has determined that there is a cultural affiliation between the human remains and associated funerary objects and Indian Tribes or Native Hawaiian organizations in this notice.

DATES: Repatriation of the human remains and associated funerary objects in this notice may occur on or after September 5, 2024.

ADDRESSES: Dale Cleland, Fort Leavenworth, 820 McClellan Avenue, Fort Leavenworth, KS 66027, telephone (913) 680-5270, email dale.d.cleland.civ@army.mil.

SUPPLEMENTARY INFORMATION: This notice is published as part of the National Park Service's administrative responsibilities under NAGPRA. The determinations in this notice are the sole responsibility of Fort Leavenworth, and additional information on the determinations in this notice, including the results of consultation, can be found in its inventory or related records. The National Park Service is not responsible for the determinations in this notice.

Abstract of Information Available

Human remains representing, at least, one individual have been identified. The 54 associated funerary objects are one projectile point, one section of a drill, one modified stone, two unmodified rocks, one scraper, 45 lithic flakes, two deer antler fragments, and one bag of soil matrix. In 1966, the individual was removed from site 14LV328 in Leavenworth County, Kansas, as part of a Kansas State Historical Society excavation of a burial mound. The site has been dated to the Valley focus (50 B.C.-A.D. 400) or Kansas City Hopewell (A.D. 1-750).

Cultural Affiliation

Based on the information available and the results of consultation, cultural affiliation is clearly identified by the information available about the human remains and associated funerary objects described in this notice.

Determinations

Fort Leavenworth has determined that:

• The human remains described in this notice represent the physical remains of one individual of Native American ancestry.

• The 54 objects described in this notice are reasonably believed to have been placed intentionally with or near individual human remains at the time of death or later as part of the death rite or ceremony.

• There is a connection between the human remains and associated funerary objects described in this notice and the Kaw Nation, Oklahoma and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 5, 2024. If competing requests for repatriation are received, Fort Leavenworth must determine the most appropriate requestor prior to repatriation. Requests for joint repatriation of the human remains and associated funerary objects are considered a single request and not competing requests. Fort Leavenworth is responsible for sending a copy of this notice to the Indian Tribes and Native Hawaiian organizations identified in this notice.

Authority: Native American Graves Protection and Repatriation Act, 25 U.S.C. 3003, and the implementing regulations, 43 CFR 10.10.

Dated: July 26, 2024.
Melanie O'Brien,
Manager, National NAGPRA Program.

[FR Doc. 2024-17261 Filed 8-5-24; 8:45 am]

BILLING CODE 4312-52-P